DEPARTMENT OF HEALTH AND HUMAN SERVICES

National Institutes of Health

Center for Scientific Review; Amended Notice of Meeting

Notice is hereby given of a change in the meeting of the Center for Scientific Review Special Emphasis Panel, January 6, 2010, 1 p.m. to January 6, 2010, 3 p.m., National Institutes of Health, 6701 Rockledge Drive, Bethesda, MD, 20892 which was published in the Federal Register on December 8, 2009, 74 FR 64703.

The starting time of the meeting on January 6, 2010 has been changed to 11 a.m. until adjournment at 1p.m.

The meeting date and location remain the same. The meeting is closed to the public.

Dated: December 16, 2009.
Jennifer Spaeth,
Director, Office of Federal Advisory Committee Policy.

[FR Doc. E9-30395 Filed 12-21-09; 8:45 am]

BILLING CODE 4140-01-P